DEPARTMENT OF ENERGY

Federal Energy Regulatory Commission

[Project No. 1494-348]

Grand River Dam Authority; Notice of Availablity of Shoreline Management Plan for the Pensacola Project and Soliciting Comments, Motions To Intervene, and Protests

August 8, 2008.

Take notice that the following hydroelectric application has been filed with the Commission and is available for public inspection:

a. Application Type: Shoreline Management Plan.

b. Project No. 1494-348.

c. Date Filed: July 21, 2008.

d. Applicant: Grand River Dam Authority.

e. Name of Project: Pensacola Hydroelectric Project.

f. Location: The project is located on the Grand River in northeastern Oklahoma and lies within Craig, Delaware, Mayes, and Ottawa Counties. The project does not occupy any Federal lands.

g. Filed Pursuant to: Federal Power Act 16 U.S.C. 791(a)-825(r)

h. Applicant Contact: Mr. Robert Sullivan, Grand River Dam Authority, P.O. Box 409, 226 West Dwain Willis Avenue, Vinita, Oklahoma 74301-0409. Phone: (918) 256-5545.

i. FERC Contact: Any questions on this notice should be addressed to Brian Romanek at (202) 502-6175 or by e-mail: Brian.Romanek@ferc.gov.

j. Deadline for filing motions to intervene and protests, comments, and recommendations are due 30 days from the issuance date of this notice. All documents (original and eight copies) should be filed with: Kimberly D. Bose, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

k. Description of the Application: The Grand River Dam Authority, licensee of the Pensacola Hydroelectric Project, has filed a Shoreline Management Plan (SMP) for the project. The SMP is a comprehensive plan to manage the multiple resources and uses of the project's shoreline in a manner that is consistent with license requirements and project purposes, and to address the needs and interests of stakeholders.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Project Number of the particular application to which the filing refers. All documents (original and eight copies) should be filed with: Secretary, Federal Energy Regulatory Commission, 888 First Street, NE., Washington DC 20426. A copy of any motion to intervene must also be served upon each representative of the Applicant specified in the particular application.

p. Agency Comments: Federal, state, and local agencies are invited to file comments on the application. A copy of the application may be obtained by agencies or directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Nathaniel J. Davis, Sr.,
Deputy Secretary.

[FR Doc. E8-18999 Filed 8-15-08; 8:45 am]

BILLING CODE 6717-01-P